DEPARTMENT OF ENERGY

Notice of Request for Information (RFI) on National Wind Technology Center Facility and Infrastructure Investments

AGENCY: Wind Energy Technologies Office, Office of Energy Efficiency and Renewable Energy, Department of Energy

ACTION: Request for information (RFI).

SUMMARY: The U.S. Department of Energy (DOE) invites public comment on its Request for Information (RFI) number DE-FOA-0001959 regarding the National Wind Technology Center. The purpose of this RFI is to address the growing research and development (R&D) interest in the use of the National Renewable Energy Laboratory's (NREL's) National Wind Technology Center (NWTC) facilities for renewable energy, energy storage, and grid integration technology development and testing.

DATES: Responses to the RFI must be received by no later than 5:00pm (ET) on August 27, 2018.

ADDRESSES: Interested parties are to submit comments electronically to NWTC_EERE_RFI@ee.doe.gov. Include National Wind Technology Center Facility and Infrastructure Investments in the subject of the title. Responses must be provided as attachments to an email. It is recommended that attachments with file sizes exceeding 25MB be compressed (i.e., zipped) to ensure message delivery. Responses must be provided as an attachment to the email, and no more than 10 pages in length, 12 point font, 1 inch margins. Only electronic responses will be accepted. The complete RFI document is located at https://eere-exchange.energy.gov/.

FOR FURTHER INFORMATION CONTACT: Questions may be addressed to Gary Nowakowski who can be reached at (720) 356-1732 or Gary.Nowakowski@ee.doe.gov. Further instruction can be found in the RFI document posted on EERE Exchange.

SUPPLEMENTARY INFORMATION: The purpose of this RFI is to solicit feedback from industry, academia, research laboratories, government agencies, and other stakeholders on energy efficiency and renewable energy R&D testing needs and the associated equipment, facilities and infrastructure needed to ensure continued world class energy technology development at the NWTC. This is solely a request for information and NOT a Funding Opportunity Announcement (FOA). EERE is not accepting applications. The RFI is available at: https://eere-exchange.energy.gov/.

Confidential Business Information

Because information received in response to this RFI may be used to structure future programs, funding and/or otherwise be made available to the public, respondents are strongly advised to not include any information in their responses that might be considered business sensitive, proprietary, or otherwise confidential. If, however, a respondent chooses to submit business sensitive, proprietary, or otherwise confidential information, it must be clearly and conspicuously marked as such in the response as detailed in the RFI [DE-FOA-0001959] at: https://eere-exchange.energy.gov/.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

Signed in Washington, DC, on July 27, 2018.
Valerie Reed,
Acting Director, Wind Energy Technologies Office.

[FR Doc. 2018-16454 Filed 7-31-18; 8:45 am]

BILLING CODE 6450-01-P